DEPARTMENT OF ENERGY

Federal Energy Regulatory Commission

[Docket No. CP25-204-000]

Northwest Pipeline LLC; Notice of Schedule for the Preparation of an Environmental Assessment for the Kemmerer Horsepower Replacement Project

On April 10, 2025, Northwest Pipeline LLC (Northwest) filed an application in Docket No. CP25-204-000 requesting a Certificate of Public Convenience and Necessity pursuant to Section 7(c) and Authorization pursuant to Section 7(b) of the Natural Gas Act to construct, operate, and abandon certain natural gas pipeline facilities. The proposed project is known as the Kemmerer Horsepower Replacement Project (Project), and would retire four legacy reciprocating engine compressors and one legacy gas turbine and replace these facilities with one natural gas-fired turbine-driven compressor in Lincoln County, Wyoming. According to Northwest, the Project would improve system reliability due to the high maintenance needs and costs associated with the older units, as well as conform with Northwest's Modernization and Emissions Reduction Program.

On April 16, 2025, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ For tracking purposes under the National Environmental Policy Act, the unique identification number for documents relating to this environmental review is EAXX-019-20-000-1750866092.

Schedule for Environmental Review

Issuance of EA—October 9, 2025

90-day Federal Authorization Decision Deadline ²—January 7, 2026

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

Northwest proposes to construct and operate, on land owned and managed by the U.S. Bureau of Land Management (BLM): one Solar Mars 90 gas-fired turbine having approximately 13,220 ISO-rated horsepower; a compressor building to house the turbine and associated compressor package; power and unit control buildings; office and warehouse space; and other ancillary facilities to the east of its existing Kemmerer Compressor Station within an approximately 80-acre parcel in Lincoln County, Wyoming. Upon the new compressor station's completion, Northwest would abandon and remove the existing station facilities in accordance with the terms and conditions of the BLM right-of-way grant and requirements set forth in Title 43 Code of Federal Regulations Sections 2800 and 2880.

Background

On June 11, 2025, the Commission issued a Notice of Scoping Period Requesting Comments on Environmental Issues for the Proposed Kemmerer Horsepower Replacement Project (Notice of Scoping). The Notice of Scoping was sent to affected landowners; federal, state, and local government agencies; elected officials; environmental and public interest groups; Native American tribes; other interested parties; and local libraries and newspapers. As of the date of issuance of this Notice of Schedule, we have received no comments in response to the Notice of Scoping. Any substantive comments received will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP25-204), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: June 27, 2025.
Carlos D. Clay,
Deputy Secretary.

[FR Doc. 2025-12334 Filed 7-1-25; 8:45 am]

BILLING CODE 6717-01-P